VETERANS AFFAIRS DEPARTMENT

Reestablishment: Veterans' Family, Caregiver and Survivor Advisory Committee

AGENCY: Department of Veterans Affairs.

ACTION: Notice of intent.

SUMMARY: We are giving notice that the Secretary of Veterans Affairs intends to reestablish the Veterans' Family, Caregiver and Survivor Advisory Committee for a 2-year period. The Secretary has determined that the Committee is necessary and in the public interest.

FOR FURTHER INFORMATION CONTACT: Jeffrey Moragne, Committee Management Office, Department of Veterans Affairs, Advisory Committee Management Office (00AC), 810 Vermont Avenue NW, Washington, DC 20420; telephone (202) 266-4660; or email at Jeffrey.Moragne@va.gov.

SUPPLEMENTARY INFORMATION: Pursuant to the Federal Advisory Committee ACT, notice is hereby given that the Secretary of Veterans Affairs intends to reestablish the Veterans' Family, Caregiver and Survivor Advisory Committee for 2 years from the filing date of the charter's reestablishment.

The Committee advises the Secretary of Veterans Affairs, through the Chief Veterans Experience Officer, Veterans Experience Office in support of the application of VA's customer experience principles to Veterans and their families, caregivers and survivors. The advice will be related to Veterans' families, caregivers, and survivors across all generations, relationships and Veteran status; the use, and where necessary possible expansion, of VA care, benefits, and memorial services by Veterans' families, caregivers and survivors; policies, regulations and administrative requirements related to the transition of Servicemembers from the Department of Defense (DoD) to enrollment in VA and the access to and use of all federal, state and local services that impact Veterans' families, caregivers and survivors; and factors that influence access to, quality of, and accountability for care, benefits and memorial services for Veterans' families, caregivers and survivors.

Dated: May 17, 2021.
Jelessa M. Burney,
Federal Advisory Committee Management Officer.

[FR Doc. 2021-10649 Filed 5-20-21; 8:45 am]

BILLING CODE P